FEDERAL DEPOSIT INSURANCE CORPORATION

FDIC Advisory Committee on Banking Policy; Notice of Meeting

AGENCY: Federal Deposit Insurance Corporation (FDIC).

ACTION: Notice of open meeting.

SUMMARY: In accordance with the Federal Advisory Committee Act (Pub. L. 92-463, as amended), notice is hereby given of a meeting of the FDIC Advisory Committee on Banking Policy (“Advisory Committee”), which will be held at the FDIC office in Arlington, Virginia. The Advisory Committee will provide advice and recommendations on a broad range of issues relating to the FDIC's mission and activities.

Time and Place: Tuesday, April 22, 2003, from 9 a.m. to 12:30 p.m., and 1:30 p.m. and 3:30 p.m. The meeting will be held in Meeting Room A at the FDIC Seidman Center, located at 1001 North Monroe Street, Arlington, Virginia.

Agenda: The agenda items include discussion of the FDIC regional and field office structure, the future of financial regulation, and the future of banking. Agenda items are subject to change. Any changes to the agenda will be announced at the beginning of the meeting.

Type of Meeting: The meeting will be open to the public, limited only by the space available on a first-come, first-served basis. For security reasons, members of the public will be subject to security screening procedures and must present a valid photo identification to enter the building. The FDIC will provide antendees with auxiliary aids (e.g., sign language interpretation) required for this meeting. Those attendees needing such assistance should call (202) 416-2089 (Voice); (202) 416-2007 (TTY), at least two days before the meeting to make necessary arrangements. Written statements may be filed with the committee before or after the meeting.

FOR FURTHER INFORMATION CONTACT: Requests for further information concerning the meeting may be directed to Mr. Robert E. Feldman, Committee Management Officer of the FDIC, at (202) 898-3742.

Dated: April 2, 2003.
Federal Deposit Insurance Corporation.
Robert E. Feldman,
Committee Management Officer.

[FR Doc. 03-8334 Filed 4-4-03; 8:45 am]

BILLING CODE 6714-01-M